DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB).

DATES: Comments regarding this proposed information collection must be received on or before July 28, 2022. If you anticipate any difficulty in submitting comments within that period, contact the person listed in the FOR FURTHER INFORMATION CONTACT section as soon as possible.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John Walsh, Office of Talent Management, Office of the Chief Human Capital Officer, U.S. Department of Energy, 1000 Independence Avenue SW, Washington, DC 20585-1615; (202) 287-5774; john.walsh@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5193.

(2) Information Collection Request Titled: DOE Applicant Portal;

(3) Type of Review: Extension;

(4) Purpose: The Department of Energy (DOE) will collect two broad types of data: Application Data and Demographic Data. Application Data will include a resume and information about a candidate's contact information, education, work experience, and work interests. DOE will use this information to evaluate an individual's qualifications for employment opportunities in support of the Infrastructure Investment and Jobs Act (IIJA) of 2021, Public Law 117-58 and other direct-hire authorities and to refer potential candidates to relevant application platforms. The Demographic Data requested is strictly voluntary. It will be used to evaluate agency marketing and outreach strategies to expand both the size and diversity of the applicant pool and assess the aggregate diversity of the applicant pool as candidates move through the evaluation process. Potential candidates are the most likely respondents to the Public Notice.

(5) Annual Estimated Number of Respondents: 35,000.

(6) Annual Estimated Number of Total Responses: 35,000.

(7) Annual Estimated Number of Burden Hours: 5,845.

(8) Annual Estimated Reporting and Recordkeeping Cost Burden: $340,121.

Statutory Authority: DOE is authorized to collect the information pursuant to its direct hire authorities, including Section 301 of the Infrastructure Investment and Jobs Act (IIJA) of 2021, Public Law 117-58; 5 CFR 337.201; and Office of Personnel Management GW-007, Direct Hire Authorities (October 11, 2018), for Scientific, Technical, Engineering, and Mathematics (STEM) positions. DOE is using existing hiring authorities, including government-wide direct hiring authorities, to identify potential candidates for positions. This information will be collected and maintained under the Privacy Act System of Records Notice OPM/GOVT-5, Recruiting, Examining, and Placement Records., 79 FR 16834 (March 26, 2014), with a modification published in 80 FR 74815 (November 30, 2015) and OPM/GOVT-7 Applicant Race, Sex, National Origin, and Disability Status Records, 71 FR 35351 (June 19, 2006), amended 80 FR 74815 (Nov. 30, 2015).

Signing Authority

This document of the Department of Energy was signed on June 22, 2022, by Erin Moore, Chief Human Capital Officer, Office of the Chief Human Capital Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 23, 2022.
Treena V. Garrett,
Federal Register Liaison Officer, U.S. Department of Energy.

[FR Doc. 2022-13748 Filed 6-27-22; 8:45 am]

BILLING CODE 6450-01-P